DEPARTMENT OF THE INTERIOR

Bureau of Land Management

[CO-930-1430-ET; COC-34653]

Public Land Order No. 7642; Modification of Public Land Order No. 6761; Colorado

AGENCY: Bureau of Land Management, Interior.

ACTION: Public land order.

SUMMARY: This order modifies Public Land Order No. 6761, which withdrew lands for the protection of archaeological sites, to allow for disposal by exchange. This action will open the lands to exchange only.

DATES: Effective August 10, 2005.

FOR FURTHER INFORMATION CONTACT: Doris E. Chelius, BLM Colorado State Office, 2850 Youngfield Street, Lakewood, Colorado 80215-7076, 303-239-3706.

SUPPLEMENTARY INFORMATION: The lands have been and will remain open to mineral leasing. The lands containing archaeological values will not be exchanged until the sites have been mitigated.

Order

By virtue of the authority vested in the Secretary of the Interior by Section 204 of the Federal Land Policy and Management Act of 1976, 43 U.S.C. 1714 (2000), it is ordered as follows:

1. Public Land Order No. 6761 (55 FR 862, January 10, 1990), which withdrew 378.84 acres of public lands to protect the Windy Gap Archaeological Site, is hereby modified to allow for disposal of the lands by exchange in accordance with Section 206 of the Federal Land Policy and Management Act of October 21, 1976, as amended, 43 U.S.C. 1716 (2000).

2. The lands referenced in Paragraph 1 are hereby made available for exchange in accordance with Section 206 of the Federal Land Policy and Management Act of October 21, 1976, 43 U.S.C. 1716 (2000), subject to valid existing rights, the provisions of existing withdrawals, other segregations of record, and the requirements of applicable law.

Dated: July 19, 2005.
Rebecca W. Watson,
Assistant Secretary—Land and Minerals Management.

[FR Doc. 05-15816 Filed 8-9-05; 8:45 am]

BILLING CODE 4310-JB-P